DEPARTMENT OF AGRICULTURE

Animal and Plant Health Inspection Service

[Docket No. APHIS-2023-0079]

Spotted Lanternfly Cooperative Control Program; Programmatic Environmental Assessment and Finding of No Significant Impact

AGENCY: Animal and Plant Health Inspection Service, USDA.

ACTION: Notice.

SUMMARY: We are advising the public that the Animal and Plant Health Inspection Service has prepared a programmatic environmental assessment and finding of no significant impact relative to the Spotted Lanternfly Cooperative Control Program in the conterminous United States. The environmental assessment documents our review and analysis of environmental impacts associated with the Spotted Lanternfly Cooperative Control Program. Based on its finding of no significant impact, the Animal and Plant Health Inspection Service has determined that an environmental impact statement need not be prepared.

FOR FURTHER INFORMATION CONTACT: Mr. Matthew Travis, Spotted Lanternfly National Policy Manager, PPQ, APHIS, Emergency and Domestic Programs, 4700 River Road, Unit 133, Riverdale, MD 20737-1238; telephone: (580) 240-5394; email: Matthew.A.Travis@usda.gov.

SUPPLEMENTARY INFORMATION:

Background

The spotted lanternfly (SLF), Lycorma delicatula, an invasive species native to Asia, is a destructive pest that in large numbers can cause significant damage to critical habitat and economically important plants. The U.S. Department of Agriculture, Animal and Plant Health Inspection Service (APHIS) proposed to control SLF to slow the spread of this invasive insect in the conterminous United States wherever outbreaks are detected.

SLF infestation has led to crop loss, agriculture exportation problems, and increased management costs. APHIS has concerns with the potential for long-distance movement of SLF within the United States, and the continued risk of SLF introduction from other countries. Additionally, APHIS acknowledges that the environmental and socioeconomic damage to SLF-affected regions can be substantial.

On November 9, 2023, we published in the Federal Register (88 FR 77259-77260, Docket No. APHIS-2023-0079) a notice ¹ in which we announced the availability, for public review and comment, of a programmatic environmental assessment (ProEA) that examined the potential environmental impacts associated with the SLF cooperative control program. In our analysis, APHIS found that an adaptive pest management approach that combines quarantine, chemical treatments, and pest survey is the preferred alternative to address the potential environmental impact of a SLF outbreak.

¹ To view the notice, the supporting documents, and the comments we received, go to www.regulations.gov, and enter APHIS-2023-0079 in the Search field.

We solicited comments on the ProEA for 30 days ending December 11, 2023. We received two comment submissions by that date. A commenter questioned why Alaska and Hawaii were excluded from the ProEA, citing a map for the possible host range of SLF that indicated it could become established in Alaska. The ProEA was limited to the conterminous United States based on information that possible introduction of SLF into Alaska was not imminent. However, should SLF become established in Alaska, a supplemental EA will be prepared. The same commenter also raised a concern with a perceived lack of information and analyses on the economic impact of an SLF outbreak in the draft ProEA. Finally, another commenter agreed with APHIS that SLF is a destructive pest. The comments that we received, and APHIS' responses to the comments, are presented in our finding of no significant impact (FONSI) (see supporting documents).

In this document, we are advising the public of our FONSI on the implementation of the adaptive management alternative for the SLF program. The finding, which is based on the results of the analysis in the final ProEA, reflects our determination that under this alternative, the methods used to exclude, detect, prevent, and control SLF infestations will not have a significant impact on the quality of the human environment.

The ProEA and FONSI may be viewed on the regulations.gov website or in our reading room (see ADDRESSES above for a link to regulations.gov and information on the location and hours of the reading room). You may also request paper copies of the ProEA and FONSI by calling or writing to the person listed under FOR FURTHER INFORMATION CONTACT. Please refer to the title of the ProEA when requesting copies.

The ProEA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 3rd day of May 2024.
Michelle Wenberg,
Acting Administrator, Animal and Plant Health Inspection Service.

[FR Doc. 2024-10648 Filed 5-16-24; 8:45 am]

BILLING CODE 3410-34-P